DEPARTMENT OF AGRICULTURE

Forest Service

Amador County Resource Advisory Committee

AGENCY: Forest Service, USDA.

ACTION: Notice of meeting.

SUMMARY: The Amador County Resource Advisory Committee will meet in Jackson, California. The committee is meeting as authorized under the Secure Rural Schools and Community Self-Determination Act (Pub. L. 110-343) and in compliance with the Federal Advisory Committee Act. The purpose of the meeting is to meet as a committee for the first time, receive a briefing on duties and responsibilities, elect a chair person, and set the dates for the next meetings.

DATES: The meeting will be held at the Amador County Supervisors Building on May 5, 2010, 5 p.m.

ADDRESSES: The meeting will be held at the Amador County Supervisors Building located at 801 Court Street, Jackson, California, 95642 in the Board of Supervisor's Chambers. Written comments should be sent to Frank Mosbacher; Forest Supervisor's Office; 100 Forni Road; Placerville, CA 95667. Comments may also be sent via e-mail to fmosbacher@fs.fed.us, or via facsimile to 530-621-5297.

All comments, including names and addresses when provided, are placed in the record and are available for public inspection and copying. The public may inspect comments received at 100 Forni Road; Placerville, CA 95667. Visitors are encouraged to call ahead to 530-622-5061 to facilitate entry into the building.

FOR FURTHER INFORMATION CONTACT: Frank Mosbacher, Public Affairs Officer, Eldorado National Forest Supervisors Office, (530) 621-5268.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: This will be the first time newly appointed members to the Amador County RAC will have a chance to meet each other. Following introductions, information will be shared about the purpose of the RAC, roles and responsibilities, and the Federal Advisory Committee Act. In addition, a committee chair will be elected and a calendar of next meeting dates will be established. More information will be posted on the Eldorado National Forest Web site @ http://www.fs.fed.us/r5/eldorado. A public comment opportunity will be made available following the business activity. Future meetings will have a formal public input period for those following the yet to be developed public input process.

Dated: April 12, 2010.
Ramiro Villalvazo,
Forest Supervisor.

[FR Doc. 2010-9295 Filed 4-22-10; 8:45 am]

BILLING CODE 3410-11-M